DEPARTMENT OF ENERGY

Federal Energy Regulatory Commission

Notice of Application and Applicant-Prepared EA Accepted for Filing, Soliciting Motions To Intervene and Protests, and Soliciting Comments, and Final Terms and Conditions, Recommendations, and Prescriptions

December 11, 2001.

Take notice that the following hydroelectric application and applicant-prepared environmental assessment has been filed with the Commission and is available for public inspection.

a. Type of Application: Original Minor License.

b. Project No.: 11659-002.

c. Date filed: October 23, 2001.

d. Applicant: Gustavus Electric Company (GEC).

e. Name of Project: Falls Creek Hydroelectic Project .

f. Location: On Falls Creek (also known as the Kahtaheena River), in southeastern Alaska near the town of Gustavus. The project would be located on lands currently located within the boundary of Glacier Bay National Park and administered by the National Park Service. The Glacier Bay National Park Boundary Adjustment Act of 1998 (Act) provides that if a license is issued to Gustavus Electric Company for the project, the minimum amount of Glacier Bay National Park land necessary to construct and operate the hydroelectric project would be transferred, as part of a land exchange, to the State of Alaska. The Act also authorizes the submittal of a license application for this project to the Federal Energy Regulatory Commission.

g. Filed Pursuant to: Federal Power Act 16 U.S.C. 791 (a)-825(r) and Glacier Bay National Park Boundary Adjustment Act of 1998 (Pub. L. 105-317, 112 Stat. 3002).

h. Applicant Contact: Richard Levitt, Gustavus Electric Company, PO Box 102, Gustavus, Alaska 99826; (907) 697-2299.

i. FERC Contact: Bob Easton, Federal Energy Regulatory Commission, 888 First Street NE., Washington, DC 20426; (202) 219-2782, e-mail: robert.easton@ferc.fed.us.

j. Deadline for filing motions to intervene and protests, comments, and final terms and conditions, recommendations, and prescriptions: 60 days from the issuance of this notice.

All documents (original and eight copies) should be filed with: Linwood A. Watson, Jr., Acting Secretary, Federal Energy Regulatory Commission, 888 First Street, NE, Washington, DC 20426.

The Commission's rules of practice require all intervenors filing documents with the Commission to serve a copy of that document on each person on the official service list for the project. Further, if an intervenor files comments or documents with the Commission relating to the merits of an issue that may affect the responsibilities of a particular resource agency, they must also serve a copy of the document on that resource agency.

Motions to intervene, protests, comments, terms and conditions, recommendations, and prescriptions may be filed electronically via the Internet in lieu of paper. See 18 CFR 385.2001(a)(1)(iii) and the instructions on the Commission's Web site (http://www.ferc.gov) under the “e-Filing” link.

k. This application has been accepted for filing.

l. The Falls Creek Hydroelectric Project would consist of: (1) An approximately 70-foot-long and 10-foot-high dam; (2) a 0.5-acre reservoir having no storage capacity at elevation 665 feet mean sea level; (3) a powerhouse containing one generating unit for a total installed capacity of 800 kilowatts; (4) 5 miles of buried transmission line; and (5) appurtenant facilities. The project is estimated to generate an average of 4.8 million kilowatthours annually. The dam and project facilities would be owned by the applicant.

m. A copy of the application is on file with the Commission and is available for public inspection. This filing may also be viewed on the Web at http://www.ferc.gov using the “RIMS” link—select “Docket #” and follow the instructions (call 202-208-2222 for assistance). A copy is also available for inspection and reproduction at the address in item h above.

n. Anyone may submit comments, a protest, or a motion to intervene in accordance with the requirements of rules of practice and procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

The Commission directs, pursuant to Section 4.34(b) of the Regulations (see Order No. 533 issued May 8, 1991, 56 FR 23108, May 20, 1991) that all comments, recommendations, terms and conditions and prescriptions concerning the application and APEA be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) bear in all capital letters the title “PROTEST”, “MOTION TO INTERVENE”, “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

Linwood A. Watson, Jr.,
Acting Secretary.

[FR Doc. 01-31088 Filed 12-17-01; 8:45 am]

BILLING CODE 6717-01-P